DEPARTMENT OF LABOR

Occupational Safety and Health Administration

[Docket No. ICR-1218-0180(2000)]

Bloodborne Pathogens Standard; Extension of the Office of Management and Budget's (OMB) Approval of Information-Collection (Paperwork) Requirements

AGENCY: Occupational Safety and Health Administration (OSHA), Labor.

ACTION: Notice of an opportunity for public comment.

SUMMARY: OSHA solicits comments concerning the increased burden hours proposed for, and the extension of, the information-collection requirements contained in its Bloodborne Pathogens Standard (29 CFR 1910.1030).

REQUEST FOR COMMENT: The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before November 28, 2000.

ADDRESSES: Submit written comments to the Docket Office, Docket No. ICR-1218-0180(2000), OSHA, U.S. Department of Labor, Room N-2625, 200 Constitution Avenue, NW., Washington, DC 20210; telephone: (202) 693-2350. Commenters may transmit written comments of 10 pages or less in length by facsimile to (202) 693-1648.

FOR FURTHER INFORMATION CONTACT: Todd R. Owen, Directorate of Policy, OSHA, U.S. Department of Labor, Room N-3641, 200 Constitution Avenue, NW., Washington, DC 20210; telephone: (202) 693-2444. A copy of the Agency's Information-Collection Request (ICR) supporting the need for the information-collection requirements specified by the Bloodborne Pathogens Standard is available for inspection and copying in the Docket Office, or you may request a mailed copy by telephoning Todd Owen at (202) 693-2444. For electronic copies of this ICR, contact OSHA on the Internet at ­http://www.osha.gov.

SUPPLEMENTARY INFORMATION

I. Background

The Department of Labor, as part of its continuing effort to reduce paperwork and respondent burden, conducts a preclearance consultation program to provide the general public and Federal agencies with an opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information burden is correct. The Occupational Safety and Health Act of 1970 (the Act) authorizes information collection by employers as necessary or appropriate for enforcement of the Act or for developing information regarding the causes and prevention of occupational injuries, illnesses, and accidents (29 U.S.C. 657).

The information-collection requirements specified in the Bloodborne Pathogens Standard protect employees from the adverse health effects that can result from exposure to bloodborne pathogens, including the human immunodeficiency virus (HIV) and hepatitis B virus (HBV). The major information-collection provisions require employers to: Develop and maintain exposure-control plans; develop a housekeeping schedule; provide employees with HBV vaccinations, as well as post-HBV-exposure medical evaluations and follow-ups; provide employees with information and training; maintain medical and training records for specified periods; and provide OSHA, the National Institute for Occupational Safety and Health, and employees and their authorized representatives with access to these records. In addition, HIV and HBV research laboratories and production facilities must also adopt or develop, and review at least once a year, a biosafety manual.

II. Proposed Actions

OSHA proposes to increase the existing burden hours specified for, and to extend OMB's approval of, the collection-of-information (paperwork) requirements contained in its Bloodborne Pathogens Standard. The Agency is increasing its previous burden-hour estimate of 5,162,397 hours by 71,607 hours. This adjustment resulted when OSHA revised several information collections to conform to current Center for Disease Control guidelines. ¹ These revisions include updating the post-exposure follow-ups provided to employees exposed to blood suspected to be HIV positive, and adding post-vaccination screening for employees who receive HBV vaccinations. The Agency will summarize the comments submitted in response to this notice, and will include this summary in its request to OMB to extend the approval of the information-collection requirements contained in the Bloodborne Pathogens Standard.

¹ “Public Health Service Guidelines for the Management of Health-Care Worker Exposures to HIV and Recommendations for Postexposure Prophylaxis,” Morbidity and Mortality Weekly Report, vol. 47, no. RR-7, May 15, 1998, and “Immunization of Health-Care Workers: Recommendations of the Advisory Committee on Immunization Practices (ACIP) and the Hospital Infection Control Practices Advisory Committee (HICPAC),” Morbidity and Mortality Weekly Report, vol. 46, no. RR-18, December 26, 1997, Centers for Disease Control and Prevention (CDC), Atlanta, GA 30333.

Type of Review: Extension of currently approved information-collection requirements.

Title: Bloodborne Pathogens Standard (29 CFR 1910.1030).

OMB Number: 1218-0180.

Affected Public: Business or other for-profit organizations; Federal government; State, Local, or Tribal governments.

Number of Respondents: 511,805.

Frequency: On occasion.

Total Responses: 11,345,833.

Average Time per Response: Varies from 1 minute to maintain an employee's training record, to 100 minutes for an employee to receive a Hepatitis B vaccination (HBV) and post-vaccination screening for the HBV.

Estimated Total Burden Hours: 5,242,988 hours.

Estimated Cost (Operation and Maintenance): $29,247,135.

III. Authority and Signature

Charles N. Jeffress, Assistant Secretary of Labor for Occupational Safety and Health, directed the preparation of this notice. The authority for this notice is the Paperwork Reduction Act of 1995 (44 U.S.C. 3506) and Secretary of Labor's Order No 3-2000 (65 FR 50017).

Signed at Washington, DC on September 25, 2000.
Charles N. Jeffress,
Assistant Secretary of Labor.

[FR Doc. 00-25067 Filed 9-28-00; 8:45 am]

BILLING CODE 4510-26-P